FEDERAL COMMUNICATIONS COMMISSION

47 CFR Part 74

[DA 15-486]

Suspension of September 1, 2015 Digital Transition Date for Low Power Television and TV Translator Stations

AGENCY: Federal Communications Commission.

ACTION: Final rule; suspension of regulations.

SUMMARY: In this document, the Media Bureau of the Federal Communications Commission (Commission) announced that, effective May 15, 2015, the September 1, 2015 digital transition date for low power television (LPTV) and TV translator stations is hereby suspended. The Commission will decide on a new transition date in the rulemaking proceeding in MB Docket No. 03-185. Until a decision is reached in the rulemaking and the Commission can determine the effect of the future incentive auction and repacking, LPTV and TV translator stations may delay completing construction of their digital facilities.

DATES: Effective May 15, 2015.

FOR FURTHER INFORMATION CONTACT: Shaun Maher, Video Division, Media Bureau, Federal Communications Commission, Shaun.Maher@fcc.gov, (202) 418-2324.

SUPPLEMENTARY INFORMATION: Effective May 15, 2015, the September 1, 2015 digital transition date for LPTV and TV translator stations is suspended pending final action in the rulemaking proceeding in MB Docket No. 03-185 (79 FR 70824 (Nov. 28, 2014)). The Commission will decide on a new transition date in the rulemaking proceeding in MB Docket No. 03-185. Until a decision is reached in the rulemaking and the Commission can determine the effect of the future incentive auction and repacking, LPTV and TV translator stations may delay completing construction of their digital facilities. Class A television stations are still subject to the September 1, 2015 transition date and analog Class A stations may no longer operate in analog mode after 11:59 p.m., local time, on September 1, 2015. Class A television stations that have not completed constructing their digital facilities by the transition date must go silent while they complete construction.

Class A television stations are also reminded that the Commission has designated May 29, 2015, as the Pre-Auction Licensing Deadline by which Class A television stations' digital facilities must be licensed in order to be eligible for protection in the repacking process that will be part of the incentive auction. In order for a Class A television station's digital facility to be afforded protection in the repacking process, it must be licensed or have an application for a license to cover on file by the Pre-Auction Licensing Deadline. Although Class A television stations may wait until the September 1, 2015, digital transition deadline to complete construction and license their digital facilities, those that do not have their digital facilities licensed by May 29, 2015, will be afforded protection based only on the coverage area and population served by their analog facilities.

List of Subjects in 47 CFR Part 74

Television.

Federal Communications Commission.
Barbara Kreisman,
Chief, Video Division, Media Bureau.

For the reasons discussed in the preamble, the Federal Communications Commission amends 47 CFR part 74 as follows:

PART 74—EXPERIMENTAL RADIO, AUXILIARY, SPECIAL BROADCAST AND OTHER PROGRAM DISTRIBUTIONAL SERVICES

1. The authority citation for part 74 continues to read as follows:

Authority: 47 U.S.C. 154, 302a, 303, 307, 309, 336 and 554.

2. In § 74.731, revise paragraph (l) to read as follows:

§ 74.731 Purpose and permissible service.

* * * * *

(l) After 11:59 p.m. local time on September 1, 2015, Class A television stations may no longer operate any facility in analog (NTSC) mode.

[FR Doc. 2015-10226 Filed 5-14-15; 8:45 am]

BILLING CODE 6712-01-P